Title 3—

The President

Proclamation 8353 of March 24, 2009

Greek Independence Day: A National Day of Celebration of Greek and American Democracy, 2009

By the President of the United States of America

A Proclamation

The American people join Hellenes today in commemorating the 188th anniversary of Greece’s independence. As we celebrate the establishment of the Hellenic Republic, we honor the historic contributions of Greeks and Greek-Americans.

Americans celebrated the cause of Greek independence during the new nation’s earliest years. In 1824, summarizing support for the Greek struggle among the American people, then-Representative Henry Clay declared, “That it is felt with the deepest intensity, expressed in almost every possible form, and that it increases with every new day and passing hour.” His words are echoed today as Americans celebrate the anniversary of this struggle for independence.

The relationship between Greece and the United States owes much to the vision of democracy and liberty forged in Greece. In constructing a modern democratic framework, our Nation’s founders drew upon the immutable principles of the ancient Greeks. All who cherish the ideal of democratic governance are beneficiaries of the Greek legacy.

From the literary classics taught in our children’s classrooms to the gleaming monuments of our Nation’s capital, Greek cultural traditions have also found a home in the United States. In classrooms across the country, many of our students still immerse themselves in the epics of Homer, the dramas of Sophocles, and the philosophical innovations of Plato and Aristotle. Among the Greek-influenced structures in Washington, D.C., our Nation’s Capitol Building draws upon the architectural legacy of the ancient Greeks.

In recent history, Greece and the United States have stood together to meet the challenges of our times. Greeks and Americans fought for common causes over the course of the 20th century and continue to collaborate in this century, including through membership in the North Atlantic Treaty Organization.

The strength of the bond between Greece and the United States is exemplified by the Greek-American community, which enriches our Nation with its cultural heritage and helps maintain the living relationship between our countries.

On the anniversary of Greece’s independence, we celebrate this friendship and look forward to realizing our common goals and aspirations.

NOW, THEREFORE, I, BARACK OBAMA, President of the United States of America, by virtue of the authority vested in me by the Constitution and laws of the United States, do hereby proclaim March 25, 2009, as “Greek Independence Day: A National Day of Celebration of Greek and American Democracy.” I call upon the people of the United States to observe this day with appropriate ceremonies and activities.

IN WITNESS WHEREOF, I have hereunto set my hand this twenty-fourth day of March, in the year of our Lord two thousand nine, and of the Independence of the United States of America the two hundred and thirty-third.

[FR Doc. E9-7115

Filed 3-26-09; 11:15 am]

Billing code 3195-W9-P